DEPARTMENT OF THE INTERIOR

Fish and Wildlife Service

[FWS-R4-ES-2013-N162; FXES11130400000C2-134-FF040E00000]

Endangered and Threatened Wildlife and Plants; Recovery Plan for Alabama Sturgeon

AGENCY: Fish and Wildlife Service, Interior.

ACTION: Notice of availability.

SUMMARY: We, the Fish and Wildlife Service, announce the availability of the final recovery plan for the endangered Alabama sturgeon. The final plan includes specific recovery objectives and criteria to be met in order to downlist the species to threatened under the Endangered Species Act of 1973, as amended (Act).

ADDRESSES: You may obtain a copy of the recovery plan by contacting Jeff Powell at the Daphne Field Office, by U.S. mail at U.S. Fish and Wildlife Service, Alabama Field Office, 1208-B Main Street, Daphne, AL 36532, or by telephone at 251-441-5858. Alternatively, you may visit the Fish and Wildlife Service's recovery plan Web site at http://endangered.fws.gov/recovery/index.html#plans or the Daphne Field Office Web site at http://www.fws.gov/daphne/ to obtain a copy.

FOR FURTHER INFORMATION CONTACT: Jeff Powell, at the above addresses or by telephone at 251-441-5858.

SUPPLEMENTARY INFORMATION:

Background

We listed the Alabama sturgeon (Scaphirhyncus suttkusi) as an endangered species under the Act (16 U.S.C. 1531 et seq.) on May 5, 2000 (65 FR 26438) and designated critical habitat for the species on June 2, 2009 (74 FR 26488). The species' historic range encompassed all major rivers in the Mobile Basin, below the Fall Line, including the Alabama, Tombigbee, and Cahaba River systems. Recent collections of the species have been restricted to the lower Alabama River below R.F. Henry Lock and Dam to the confluence of the Tombigbee River, as well as to the lower Cahaba River near its confluence with the Alabama River; however, incidents of such collections are extremely rare. The last capture of an Alabama sturgeon was on April 3, 2007, by biologists at the Alabama Department of Conservation and Natural Resources (ADCNR). The species was last observed on April 23, 2009, by ADCNR biologists. The Alabama sturgeon is one of the rarest species of fish in the nation and may be close to extinction.

Restoring an endangered or threatened animal or plant to the point where it is again a secure, self-sustaining member of its ecosystem is a primary goal of our endangered species program. To help guide the recovery effort, we prepare recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. The draft of this recovery plan was available for public comment from April 12 through June 11, 2012 (77 FR 21993). We considered the information received via public comments as well as from peer reviewers in our preparation and approval of this final recovery plan. We also edited some sections of the draft recovery plan to reflect these comments; however, no substantial changes were made to the draft plan.

Recovery Plan Components

The objective of this plan is to provide a framework for the recovery of the Alabama sturgeon so that protection under the Act is no longer necessary. Delisting of the species is not currently foreseeable due to extreme curtailment of range and extensive modification to the riverine habitats. Therefore, this recovery plan establishes criteria for downlisting the Alabama sturgeon from endangered to threatened.

Downlisting of the Alabama sturgeon may be considered when the following criteria are met: (1) A population consisting of approximately 500 sexually mature Alabama sturgeon is shown to be surviving and naturally reproducing in the Alabama/Cahaba Rivers; (2) population studies show that the Alabama sturgeon population is naturally recruiting (consisting of multiple age classes), sustainable over a period of 20 years (2-3 generations), and no longer requires hatchery augmentation; and (3) an agreement is in place that ensures adequate flows are being delivered down the Alabama River for successful development of sturgeon larvae and passage of the fish both upstream and downstream at dams on the Alabama River.

Authority

The authority for this action is section 4(f) of the Endangered Species Act, 16 U.S.C. 1533 (f).

Dated: July 8, 2013.
Leopoldo Miranda,
Acting Regional Director, Southeast Region.

[FR Doc. 2013-18914 Filed 8-5-13; 8:45 am]

BILLING CODE 4310-55-P